DEPARTMENT OF THE INTERIOR

Bureau of Land Management

[LLNVB00000 L71220000.EX0000 LVTFF0986020 241A.00; MO #4500014477; 10-08807; TAS: 14X8069]

Notice of Availability of the Draft Supplemental Environmental Impact Statement for the Cortez Hills Expansion Project, Lander County, NV

AGENCY: Bureau of Land Management, Interior.

ACTION: Notice of Availability.

SUMMARY: In compliance with the National Environmental Policy Act of 1969 (NEPA), as amended, and the Federal Land Policy and Management Act of 1976 (FLPMA), as amended, the Bureau of Land Management (BLM), Battle Mountain District, Mount Lewis Field Office, Battle Mountain, Nevada, has prepared a Draft Supplemental Environmental Impact Statement (EIS) for the Cortez Hills Expansion Project in Lander County, Nevada. The project was authorized in a Record of Decision and Plan of Operations Amendment Approval in November 2008 and by this notice the BLM is announcing the opening of the comment period for the Draft Supplemental EIS.

DATES: The Cortez Hills Expansion Project Draft Supplemental EIS is available for public comment for 45 days following the date the Environmental Protection Agency publishes its Notice of Availability in the Federal Register. To provide the public with an opportunity to review and comment on the Draft Supplemental EIS, the BLM will host public meetings in Crescent Valley and Battle Mountain, Nevada. The BLM will announce future meetings or hearings and any other public involvement activities at least 15 days in advance through public notices, media releases, and/or mailings.

ADDRESSES: You may submit comments related to the Cortez Hills Expansion Project Draft Supplemental EIS by the following methods:

• Fax: (775) 635-4034

• E-mail: CortezHills_DSEIS@blm.gov

• Mail: Bureau of Land Management, 50 Bastian Road, Battle Mountain, Nevada 89020, ATTN: Christopher Worthington.

• Web site: http://www.blm.gov/nv/st/en/fo/battle_mountain_field.html

FOR FURTHER INFORMATION CONTACT: Christopher Worthington, telephone (775) 635-4000; or e-mail: Christopher_Worthington@blm.gov.

SUPPLEMENTARY INFORMATION: The BLM signed a Record of Decision and Plan of Operations Approval on November 12, 2008, for the Cortez Gold Mines (CGM) Cortez Hills Expansion Project, which is an expansion of an existing open-pit gold mining and processing operations in northeastern Nevada. The project entails new surface disturbance of approximately 6,633 acres, including 6,412 acres of public land administered by the BLM Battle Mountain District and 221 acres of private land owned by CGM. The Notice of Availability of the Final Cortez Hills Expansion Project EIS, Nevada, was published in the Federal Register on October 3, 2008 (73 FR 57647).

On December 3, 2009, the U.S. Court of Appeals for the Ninth Circuit partially reversed the U.S. District Court of Nevada's denial of preliminary injunctive relief with respect to the BLM's environmental analysis of air quality and water resource issues. The BLM subsequently elected to prepare a Supplemental EIS to refine the analysis of potential air quality effects and the dewatering mitigation effectiveness for the Cortez Hills Expansion Project. The Supplemental EIS includes these analyses.

Comments, including names and street addresses of respondents, will be available for public review at the above address during regular business hours 7:30 a.m. to 4:30 p.m., Monday through Friday, except holidays, and will be published as part of the Final Supplemental EIS. Before including your address, phone number, e-mail address, or other personal identifying information in your comment, you should be aware that your entire comment—including your personal identifying information—may be made publicly available at any time.

While you can ask us in your comment to withhold your personal identifying information from public review, we cannot guarantee that we will be able to do so.

Authority: 40 CFR 1506.6.

Gerald M. Smith,
District Manager, Battle Mountain.

[FR Doc. 2010-20557 Filed 8-19-10; 8:45 am]

BILLING CODE 4310-HC-P